COMMODITY FUTURES TRADING COMMISSION

Agency Information Collection Activities Under OMB Review

AGENCY: Commodity Futures Trading Commission.

ACTION: Notice.

SUMMARY: In compliance with the Paperwork Reduction Act, this Notice announces that the Information Collection Request (“ICR”) abstracted below has been forwarded to the Office of Management and Budget (“OMB”) for review and comment. The ICR describes the nature of the information collection and its expected costs and burden. It also includes the actual data collection instruments, if any.

DATES: Comments must be submitted on or before April 17, 2013.

ADDRESSES: Send comments regarding the burden estimated or any other aspect of the information collection, including suggestions for reducing the burden, to the addresses below. Please refer to OMB Control No. 3038-0012 in any correspondence. Submit comments to: Office of Information and Regulatory Affairs, Office of Management and Budget, by the following method:

Mail: Office of Information and Regulatory Affairs, Office of Management and Budget, Attention: Desk Officer for CFTC, 725 17th Street NW., Washington, DC 20503. And: Commodity Futures Trading Commission (“CFTC”), Attention: Gary J. Martinaitis, Division of Market Oversight, by any of the following methods:

• Agency Web Site: http://comments.cftc.gov. Follow the instructions for submitting comments through the Web site.

• Mail: c/o Melissa Jurgens, Secretary of the Commission, Commodity Futures Trading Commission, Three Lafayette Centre, 1155 21st Street NW., Washington, DC 20581.

• Hand Delivery/Courier: Same address as for “Mail,” above.

• Federal eRulemaking Portal: http://www.regulations.gov. Follow the instructions for submitting comments.

Instructions: Please submit your comments to both OMB and CFTC (for CFTC, use only one of the methods listed above), and identify all comments as pertaining to the renewal of OMB Control No. 3038-0012.

All comments must be submitted in English, or if not, accompanied by an English translation. Comments will be posted as received, without change, to www.cftc.gov. You should submit only information that you wish to make available publicly. If you wish the Commission to consider information that you believe is exempt from disclosure under the Freedom of Information Act, a petition for confidential treatment of the exempt information may be submitted according to the procedures established in the Commission's regulations at 17 CFR 145.9.

FOR FURTHER INFORMATION CONTACT: Gary J. Martinaitis, Division of Market Oversight, Commodity Futures Trading Commission, 1155 21st Street NW., Washington, DC 20581; (202) 418-5209; FAX: (202) 418-5527; gmartinaitis@cftc.gov (refer to OMB Control No. 3038-0012).

SUPPLEMENTARY INFORMATION:

Title: Futures Volume, Open Interest, Price, Deliveries and Exchange of Futures for Physicals (OMB Control No. 3038-0012). This is a request for extension of a currently approved information collection.

Abstract: Commission Regulation 16.01, 17 CFR 16.01, requires the U.S. futures exchanges to publish daily information on the items listed in the title of the collection. The information required by this rule is in the public interest and is necessary for market surveillance. This rule was promulgated pursuant to the Commission's rulemaking authority contained in Sections 5 and 5a of the Commodity Exchange Act, 7 U.S.C. 7 and 7a (2000).

The Federal Register Notice for the 60-day comment period on this request for approval of an extension of a previously-approved information collection was published on December 31, 2012.¹

¹ See Agency Information Collection Activities: Notice of Intent to Renew Collection, Futures Volume, Open Interest, Price, Deliveries and Exchange of Futures for Physicals, 77 FR 77038.

Burden statement: The Commission estimates the burden of this collection of information as follows:

Estimated Annual Reporting Burden
17 CFR Section | Annual number of respondents | Frequency of response | Total annual responses | Hours per response | Total hours
16.01 | 15 | On occasion | 3750 | 0.5 | 1,875

Authority: 44 U.S.C. 3501 et seq.

Dated: March 13, 2013.
Melissa D. Jurgens,
Secretary of the Commission.

[FR Doc. 2013-06148 Filed 3-15-13; 8:45 am]

BILLING CODE 6351-01-P